DEPARTMENT OF LABOR

Employment and Training Administration

Solicitation for Grant Applications (SGA) Job Training Partnership Act, Title III-B: Skills Shortages, Partnership Training/System Building Demonstration Program

AGENCY: Employment and Training Administration (ETA), Labor.

ACTION: Notice of extension of closing date.

SUMMARY: The Employment and Training Administration published a document in the Federal Register of February 28, 2000 (65 FR 10547), concerning the availability of grant funds to respond to employers' identified skills shortages through the establishment or strengthening of regional consortia. The document's closing date is being extended.

FOR FURTHER INFORMATION CONTACT: B. Jai Johnson, Grants Management Specialist, Division of Federal Assistance, Fax (202) 219-8739.

Date Extension

In the Federal Register of February 28, 2000, in FR Doc. 00-4580, on page 10548, in the second column, correct the Dates caption to read:

DATES: The closing date for receipt of the application is Wednesday, April 19, 2000 at 4:00 p.m. (Eastern Time) at the address listed.

Dated: March 27, 2000.
Laura Cesario,
Grant Officer,

[FR Doc. 00-8015 Filed 3-30-00; 8:45 am]

BILLING CODE 4510-30-M